DEPARTMENT OF DEFENSE

Department of the Air Force

Intent To Grant an Exclusive Patent License

AGENCY: Department of the Air Force, DoD.

ACTION: Notice.

SUMMARY: Pursuant to the provisions of Part 404 of Title 37, code of Federal Regulations, which implements Public Law 96-517, as amended, the Department of the Air Force announces its intention to grant MJS International, Inc., a corporation of Missouri, having a place of business at Chesterfield, Missouri, an exclusive license in any right, title and interest the Air Force has in: U.S. Patent No. 6,267,039, issued 31 July 2001, entitled “Aircraft Missile Hit Survivability Using Infrared Lamp and Sacrificial Support Structure,” by Gregory J. Czarnecki.

DATES: A license for this patent will be granted unless a written objection is received within fifteen (15) days from the date of publication of this Notice.

FOR FURTHER INFORMATION CONTACT: Written objection should be sent to Air Force Materiel Command Law Office, AFMCLO/JAZ, 2240 B. Street, Rm 100, Wright-Patterson AFB, OH 45433-7109. Telephone: (937) 255-2838; Facsimile (937) 255-7333.

Bao-Anh Trinh,
Air Force Federal Liaison Officer.

[FR Doc. E6-5542 Filed 4-13-06; 8:45 am]

BILLING CODE 5001-05-P